DEPARTMENT OF HOMELAND SECURITY

Federal Emergency Management Agency

[Docket ID FEMA-2026-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: David N. Bascom, Acting Director, Engineering and Modeling Division, National Flood Insurance Program, Resilience, FEMA, 400 C Street SW, Washington, DC 20472, or (email) david.bascom@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Assistant Administrator, Federal Insurance Directorate, Resilience has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The current effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Elizabeth Asche,
Assistant Administrator, Federal Insurance Directorate, Resilience, Federal Emergency Management Agency, Department of Homeland Security.

State and county | Location and case No. | Chief executive officer of community | Community map repository | Date of modification | Community No.
Connecticut: New Haven (FEMA Docket No.: B-2551). | Town of East Haven (25-01-0643X). | The Honorable Joseph A. Carfora, Mayor, Town of East Haven, 250 Main Street, East Haven, CT 06512. | Engineering Department, 461 North High Street, East Haven, CT 06512. | Oct. 23, 2025 | 040037
Florida:
Bay (FEMA Docket No.: B-2551). | Unincorporated areas of Bay County (24-04-6962P). | Robert Majka, Manager, Bay County, 840 West 11th Street, Panama City, FL 32401. | Bay County Planning and Zoning Department, 840 West 11th Street, Panama City, FL 32401. | Nov. 10, 2025 | 120004
Collier (FEMA Docket No.: B-2551). | City of Marco Island, (25-04-1248P). | Mike McNees, Manager, City of Marco Island, 50 Bald Eagle Drive, Marco Island, FL 34145. | Building Services Department, 50 Bald Eagle Drive, Marco Island, FL 34145. | Oct. 9, 2025 | 120426
Duval (FEMA Docket No.: B-2551). | City of Jacksonville (24-04-6951P). | The Honorable Donna Deegan, Mayor, City of Jacksonville, 117 West Duval Street, Suite 400, Jacksonville, FL 32202. | City Hall, 117 West Duval Street, Jacksonville, FL 32202. | Oct. 15, 2025 | 120077
Duval (FEMA Docket No.: B-2551). | City of Jacksonville (25-04-0687P). | The Honorable Donna Deegan, Mayor, City of Jacksonville, 117 West Duval Street, Suite 400, Jacksonville, FL 32202. | City Hall, 117 West Duval Street, Jacksonville, FL 32202. | Nov. 6, 2025 | 120077
Leon (FEMA Docket No.: B-2551). | Unincorporated areas of Leon County (24-04-6936P). | The Honorable Vincent S. Long, Leon County, Administrator, 301 South Monroe Street, Tallahassee, FL 32301. | Leon County Renaissance Center, DSEM Environmental Services, 435 North Macomb Street, Tallahassee, FL 32301. | Nov. 4, 2025 | 120143
Monroe (FEMA Docket No.: B-2551). | Unincorporated areas of Monroe County (25-04-3831P). | The Honorable Jim Scholl, Mayor, Monroe County, Board of Commissioners, 530 Whitehead Street, Key West, FL 33040. | Monroe County Building Department, 2798 Overseas Highway, Suite 300, Marathon, FL 33050. | Nov. 14, 2025 | 125129
Orange (FEMA Docket No.: B-2551). | City of Orlando (25-04-1101P). | The Honorable Buddy Dyer, Mayor, City of Orlando, 400 South Orange Avenue, Orlando, FL 32801. | Public Works Department, Engineering Services Division, 400 South Orange Avenue, 8th Floor, Orlando, FL 32801. | Nov. 7, 2025 | 120186
Pasco (FEMA Docket No.: B-2551). | Unincorporated areas of Pasco County (24-04-6983P). | The Honorable Mike Carballa, Pasco County Administrator, 8731 Citizens Drive, New Port Richey, FL 34654. | Pasco County Government Center, 8731 Citizens Drive, New Port Richey, FL 34654. | Oct. 30, 2025 | 120230
St. Johns (FEMA Docket No.: B-2551). | Unincorporated areas of St. Johns County (25-04-1680P). | The Honorable Joy Andrews, St. Johns County Administrator, 500 San Sebastian View, St. Augustine, FL 32084. | St. Johns County Administration Building, 500 San Sebastian View, St. Augustine, FL 32084. | Oct. 28, 2025 | 125147
Volusia (FEMA Docket No.: B-2551). | City of Daytona Beach (24-04-4524P). | The Honorable Derrick Henry, Mayor, City of Daytona Beach, 301 South Ridgewood Avenue, Daytona Beach, FL 32114. | City Hall, 301 South Ridgewood Avenue, Daytona Beach, FL 32114. | Nov. 7, 2025 | 125099
Volusia (FEMA Docket No.: B-2551). | City of Ormond Beach (24-04-4524P). | The Honorable Jason Leslie, Mayor, City of Ormond Beach, 22 South Beach Street, Ormond Beach, FL 32174. | City Hall, 22 South Beach Street, Ormond Beach, FL 32174. | Nov. 7, 2025 | 125136
Volusia (FEMA Docket No.: B-2551). | Unincorporated areas of Volusia County (24-04-4524P). | George Recktenwald, Volusia County Manager, 123 West Indiana Avenue, DeLand, FL 32720. | Volusia County Thomas C. Kelly Administration Center, 123 West Indiana Avenue, DeLand, FL 32720. | Nov. 7, 2025 | 125155
Georgia: Chatham (FEMA Docket No.: B-2551). | City of Pooler (24-04-2433P). | The Honorable Karen L. Williams, Mayor, City of Pooler, 100 U.S. Highway 80 Southwest, Pooler, GA 31322. | City Hall, 100 U.S. Highway 80 Southwest, Pooler, GA 31322. | Oct. 15, 2025 | 130261
Illinois: Will (FEMA Docket No.: B-2546). | City of Aurora (25-05-1537X). | The Honorable John Laesch, Mayor, City of Aurora, 44 East Downer Place, Aurora, IL 60505. | Public Works Department,, Engineering Division, 2185 Liberty Street, Aurora, IL 60502. | Oct. 24, 2025 | 170320
Kentucky:
Union (FEMA Docket No.: B-2551). | City of Sturgis (24-04-3552P). | The Honorable Billy Adams, Mayor, City of Sturgis, P.O. Box 98, Sturgis, KY 42459. | Union County Planning Commission, 510 South Mart Street, Morganfield, KY 42437. | Oct. 23, 2025 | 210217
Union (FEMA Docket No.: B-2551). | City of Uniontown (24-04-3544P). | The Honorable LaDonna N. Tapp, Mayor, City of Uniontown, P.O. Box 548, Uniontown, KY 42461. | Union County Planning Commission, 510 South Mart Street, Morganfield, KY 42437. | Oct. 16, 2025 | 210218
Louisiana: Livingston (FEMA Docket No.: B-2551). | Unincorporated areas of Livingston Parish (25-06-0302P). | The Honorable Randy Delatte, Livingston Parish President, P.O. Box 427, Livingston, LA 70754. | Livingston Parish Building and Permit Department, 20399 Government Boulevard, Livingston, LA 70754. | Oct. 17, 2025 | 220113
Massachusetts: Plymouth (FEMA Docket No.: B-2551). | Town of Hull (25-01-0177P). | Jennifer Constable, Manager, Town of Hull, 253 Atlantic Avenue, Hull, MA 02045. | Building Department, 253 Atlantic Avenue, Hull, MA 02045. | Oct. 10, 2025 | 250269
Minnesota:
Anoka (FEMA Docket No.: B-2551). | City of Blaine (24-05-0743P). | The Honorable Tim Sanders, Mayor, City of Blaine, 10801 Town Square Drive Northeast, Blaine, MN 55449. | City Hall, 10801 Town Square Drive Northeast, Blaine, MN 55449. | Oct. 20, 2025 | 270007
Clay (FEMA Docket No.: B-2551). | City of Glyndon (24-05-0538P). | The Honorable Joe Olson, Mayor, City of Glyndon, 36 3rd Street Southeast, Glyndon, MN 56547. | City Hall, 36 3rd Street Southeast, Glyndon, MN 56547. | Oct. 24, 2025 | 270083
Clay (FEMA Docket No.: B-2551). | Unincorporated areas of Clay County (24-05-0538P). | The Honorable Kevin Campbell, Chair, Clay County, Board of Commissioners, P.O. Box 280, Moorhead, MN 56560. | Clay County Government Center, 3510 12th Avenue South, Moorhead, MN 56560. | Oct. 24, 2025 | 275235
Pennington (FEMA Docket No.: B-2551). | Unincorporated areas of Pennington County (24-05-0823P). | The Honorable Seth Nelson, Pennington County Commissioner, 101 Main Avenue North, Thief River Falls, MN 56701. | Pennington County SWCD, 201 Sherwood Avenue South, Thief River Falls, MN 56701. | Oct. 9, 2025 | 270651
North Carolina:
Mecklenburg (FEMA Docket No. B-2558). | Town of Pineville (24-04-6398P). | The Honorable David Phillips, Mayor, Town of Pineville, P.O. Box 249, Pineville, NC 28134. | Mecklenburg County Stormwater Services, 2145 Suttle Avenue, Charlotte, NC 28208. | Dec. 8, 2025 | 370160
Wake [FEMA Docket No.: B-2558]. | City of Raleigh (24-04-7419P). | The Honorable Janet Cowell, Mayor, City of Raleigh, P.O. Box 590, Raleigh, NC 27602. | Planning and Development, 219 Fayetteville Street, Raleigh, NC 27601. | Dec. 15, 2025 | 370243
Pennsylvania:
Juniata (FEMA Docket No.: B-2551). | Township of Delaware (24-03-0070P). | The Honorable Douglas L. Roush, Chair, Township of Delaware Board of Supervisors, 815 Quarry Road, McAlisterville, PA17049. | Township Hall, 815 Quarry Road, McAlisterville, PA 17049. | Nov. 7, 2025 | 421739
Montgomery (FEMA Docket No.: B-2551). | Township of Whitemarsh (24-03-0912P). | Craig McAnally, Township of Whitemarsh Manager, 616 Germantown Pike, Lafayette Hill, PA 19444. | Township Hall, 616 Germantown Pike, Lafayette Hill, PA 19444. | Nov. 7, 2025 | 420712
Texas:
Bexar (FEMA Docket No.: B-2551). | City of San Antonio (25-06-0801P). | The Honorable Ron Nirenberg, Mayor, City of San Antonio, P.O. Box 839966, San Antonio, TX 78283. | Public Works, Storm Water Division, 1901 South Alamo Street, 2nd Floor, San Antonio, TX 78205. | Oct. 6, 2025 | 480045
Collin (FEMA Docket No.: B-2551). | City of Melissa (24-06-2260P). | The Honorable Jay Northcut, Mayor, City of Melissa, 3411 Barker Avenue, Melissa, TX 75454. | City Hall, 3411 Barker Avenue, Melissa, TX 75454. | Oct. 27, 2025 | 481626
Collin (FEMA Docket No.: B-2551). | Unincorporated areas of Collin County (24-06-2260P). | The Honorable Chris Hill, Collin County Judge, 2300 Bloomdale Road, 1st Floor, McKinney, TX 75071. | Collin County Engineering Department, 4690 Community Avenue, Suite 200, McKinney, TX 75071. | Oct. 27, 2025 | 480130
Dallas (FEMA Docket No.: B-2551). | City of Dallas (24-06-2275P). | Kimberly Bizor Tolbert, Manager, City of Dallas, 1500 Marilla Street, Room 4EN, Dallas, TX 75201. | Stormwater Operations Department, 2245 Irving Boulevard, 2nd Floor, Dallas, TX 75207. | Oct. 20, 2025 | 480171
Dallas. (FEMA Docket No.: B-2551). | City of Dallas (25-06-0086P). | Kimberly Bizor Tolbert, Manager, City of Dallas, 1500 Marilla Street, Room 4EN, Dallas, TX 75201. | Stormwater Operations Department, 2245 Irving Boulevard, 2nd Floor, Dallas, TX 75207. | Oct. 20, 2025 | 480171
Dallas (FEMA Docket No.: B-2551). | City of Garland (25-06-1337P). | The Honorable Scott LeMay, Mayor, City of Garland, P.O. Box 469002, Garland, TX 75046. | City Hall, 200 North 5th Street, Garland, TX 75040. | Oct. 14, 2025 | 485471
Montgomery (FEMA Docket No.: B-2551). | City of Conroe (25-06-0024P). | The Honorable Duke W. Coon, Mayor, City of Conroe, P.O. Box 3066, Conroe, TX 77305. | City Hall, 300 West Davis Street, Conroe, TX 77301. | Nov. 4, 2025 | 480484
Rockwall (FEMA Docket No.: B-2551). | City of Rockwall (24-06-2387P). | The Honorable Tim McCallum, Mayor, City of Rockwall, 385 South Goliad Street, Rockwall, TX 75087. | City Hall, 385 South Goliad Street, Rockwall, TX 75087. | Oct. 27, 2025 | 480547
Tarrant Rockwall (FEMA Docket No.: B-2551). | City of Haltom City (25-06-0183P). | Rex Phelps, Manager, City of Haltom City, 4801 Haltom Road, Haltom City, TX 76117. | City Hall, 4801 Haltom Road, Haltom City, TX 76117. | Oct. 14, 2025 | 480599

[FR Doc. 2026-01054 Filed 1-20-26; 8:45 am]

BILLING CODE 9110-12-P